DEPARTMENT OF COMMERCE

U.S. Census Bureau

Age Search Service

ACTION: Proposed collection; Comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before April 30, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Angela Feldman Harkins, Assistant Director (Processing), United States Census Bureau, National Processing Center, Jeffersonville, Indiana, 46132, on (812) 218-3434 (or via the Internet at angela.m.feldman.harkins@census.gov).

SUPPLEMENTARY INFORMATION:

I. Abstract

Age Search is a service provided by the U.S. Census Bureau for persons who need official transcripts of personal data as proof of age for pensions, retirement plans, medicare, and social security. The transcripts are also used as proof of citizenship to obtain passports or to provide evidence of family relationship for rights of inheritance. The Age Search forms are used by the public in order to provide the Census Bureau with the necessary information to conduct a search of historical population decennial census records in order to provide the requested transcript. The Age Search service is self-supporting and is funded by the fees collected from the individuals requesting the service.

II. Method of Collection

The Form BC-600, Application for Search of Census Records, is a public use form that is submitted by applicants requesting information from the decennial census records. Applicants are requested to enclose appropriate fee by check or money order with the completed and signed Form BC-600 and return by mail to the U.S. Census Bureau, Personal Census Search Unit, in Jeffersonville, Indiana. The Form BC-649 (L), which is called a “Not Found”, advises the applicant that search for information from the census records was unsuccessful. The BC-658 (L), is sent to the applicant when insufficient information has been received on which to base a search of the census records. These two forms request additional information from the applicant to aid in the search of census records.

III. Data

OMB Number: 0607-0117.

Form Number: BC-600, BC-649(L), BC-658(L).

Type of Review: Revision of a currently approved collection.

Affected Public: Individuals or households.

Estimated Number of Respondents: 4,470 Total (BC-600-3,233; BC-649 (L)-1,036; BC-658(L)-201).

Estimated Time per Response: BC-600-12 minutes; BC-649(L)-6 minutes; BC-658(L)-6 minutes.

Estimated Total Annual Burden Hours: 772 hours.

Estimated Total Annual Cost: The Age Search processing fee is $65.00 per case. An additional charge of $20 per case for expedited requests requiring results within one day is also available.

Respondent's Obligation: Required to obtain or retain benefits.

Legal Authority: Title 13, United States Code, Section 8.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 22, 2007.
Gwellnar Banks,
Management Analyst, Office of the Chief Information Officer.

[FR Doc. E7-3432 Filed 2-27-07; 8:45 am]

BILLING CODE 3510-07-P